DEPARTMENT OF JUSTICE

Antitrust Division

Notice Pursuant to the National Cooperative Research and Production Act of 1993—Test and Diagnostics Consortium, Inc.

Notice is hereby given that, on October 16, 2003, pursuant to section 6(a) of the National Cooperative Research and Production Act of 1993, 15 U.S.C. 4301 et seq. (“the Act”), Test and Diagnostics Consortium, Inc. (“TDC”) filed written notifications simultaneously with the Attorney General and the Federal Trade Commission disclosing changes in its membership status. The notifications were filed for the purpose of extending the Act's provisions limiting the recovery of antitrust plaintiffs to actual damages under specified circumstances. Specifically, AAI Corporation, Hunt Valley, MD; BAE Systems North America, Rockville, MD; Giga-tronics Incorporated, San Ramon, CA; Ideal Aerosmith Inc., East Grand Forks, MN; Symtx, Inc., Austin, TX; Tel-Instrument Electronics Corp., Carlstadt, NJ and The Math Works, Natick, MA have been added as parties to this venture. Also, Freightliner Corporation, Portland, OR; Racal Instruments, Inc., Irvine, CA; AlliedSignal Aerospace Canada, Etobicoke, Ontario, Canada; DME Corporation, Fort Lauderdale, FL; Marconi Integrated Systems, San Diego, CA; Aeronautical Radio, Inc. (ARINC), Annapolis, MD; Agilent Technologies, Inc., Palo Alto, CA; Northrop Grumman Corp., Los Angeles, CA; Miltope Corporation, Hope Hull, AL; Raytheon Systems Company, Lexington, MA; Hamilton Software, Santa Rosa, CA; AverStar, Burlington, MA; Tern Technology, Inc., Hauppauge, NY; Transportation Technology Center, Inc., Pueblo, CO; TYX Corp., Reston, VA; TestMart, San Bruno, CA and Instant Knowledge, Charlottesville, VA are no longer parties to the venture. Additionally, Hughes Space & Communication Company, El Segundo, CA is now Boeing Satellites & Navigation Systems, Los Angeles, CA.

No other changes have been made in either the membership or planned activity of the group research project. Membership in this group research project remains open, and TDC intends to file additional written notification disclosing all changes in membership.

On November 12, 1999, TDC filed its original notification pursuant to section 6(a) of the Act. The Department of Justice published a notice in the Federal Register pursuant to Section 6(b) of the Act on June 21, 2000 (65 FR 38579).

The last notification was filed with the Department on July 23, 2001. A notice was published in the Federal Register pursuant to section 6(b) of the Act on August 28, 2001 (66 FR 45339).

Dorothy B. Fountain,
Deputy Director of Operations, Antitrust Division.

[FR Doc. 03-28790 Filed 11-17-03; 8:45 am]

BILLING CODE 4410-11-M